DEPARTMENT OF TRANSPORTATION

Office of the Secretary

[Docket ID Number: DOT-OST-2018-0068]

Notice of Submission of Proposed Information Collection to OMB; Agency Request for Reinstatement of Previously Approved Collections: Traveling by Air With Service Animals—U.S. Department of Transportation Service Animal Air Transportation Form and U.S. Department of Transportation Service Animal Relief Attestation Form

AGENCY: Office of the Secretary (OST), Department of Transportation (Department or DOT).

ACTION: Notice of submission to the Office of Management and Budget (OMB) and request for comments.

SUMMARY: In accordance with the Paperwork Reduction Act of 1995 and DOT Order 1351.29A, this notice confirms the Department's intention to renew Office of Management and Budget (OMB) Control Number 2105-0576, concerning Traveling by Air with Service Animals—U.S. Department of Transportation Service Animal Air Transportation Form, and U.S. Department of Transportation Service Animal Relief Attestation Form.

DATES: Written comments on this notice must be received by May 29, 2024.

ADDRESSES: You may file comments regarding the burden estimate, including suggestions for reducing the burden, in docket number DOT-OST-2018-0068 by any of the following methods:

• Federal eRulemaking Portal: Go to https://www.regulations.gov and follow the online instructions for submitting comments. (You may access comments received for this notice at https://www.regulations.gov by searching docket DOT-OST-2018-0068.)

• Mail: Docket Management Facility, U.S. Department of Transportation, 1200 New Jersey Ave. SE, West Building, Ground Floor, Room W12-140, Washington, DC 20590;

• Hand Delivery: West Building Ground Floor, Room W12-140, 1200 New Jersey Ave. SE, Washington, DC 20590 between 9 a.m. and 5 p.m., Monday through Friday, except Federal holidays. The telephone number is 202-366-9329.

Instructions: You must include the agency name and docket number DOT-OST-2010-0054 at the beginning of your comment. All comments received will be posted without change to https://www.regulations.gov, including any personal information provided.

Privacy Act: Anyone is able to search the electronic form of all comments received in any of DOT's dockets by the name of the individual submitting the comment (or signing the comment, if submitted on behalf of an association, business, labor union, etc.). You may review DOT's complete Privacy Act Statement in the Federal Register published on April 11, 2000 (65 FR 19477-78).

FOR FURTHER INFORMATION CONTACT: Maegan Johnson or Livaughn Chapman, Jr., Office of Aviation Consumer Protection, U.S. Department of Transportation, 1200 New Jersey Avenue SE, Washington, DC 20590, telephone number (202) 366-9342 (voice), (202) 366-7152 (fax); maegan.johnson@dot.gov or livaughn.chapman@dot.gov (email). Arrangements to receive this document in an alternative format may be made by contacting the above-named individuals.

SUPPLEMENTARY INFORMATION: DOT published a Federal Register notice with a 60-day comment period soliciting comments on the information collections on November 13, 2023 (88 FR 77667). DOT received 149 comments on the 60-day notice, which are addressed below. The Department proposed to amend the U.S. Department of Transportation Service Animal Air Transportation Form by decreasing the number of questions on the form to reduce burdens on individuals with disabilities, including instructions to clarify how to complete the form, and making other clarifying and formatting changes to the form that will allow individuals to better navigate the form.

OMB Control Number: 2105-0576.

Title: Traveling by Air with Service Animals.

Type of Request: Reinstatement of information collections.

Background: The U.S. Department of Transportation (Department or DOT) published a final rule to amend the Department's Air Carrier Access Act (ACAA) regulation on the transport of service animals by air in the Federal Register on December 10, 2020 (85 FR 79742). Under 14 CFR 382.75, airlines are permitted to require passengers traveling with service animals to submit and provide to airlines, as a condition of travel, a U.S. Department of Transportation Service Animal Air Transportation Form (“Behavior and Health Attestation Form”), and, if applicable, a U.S. Department of Transportation Service Animal Relief Attestation Form (“Relief Attestation Form”). The Behavior and Health Attestation Form is designed to provide assurances to airlines that a service animal does not pose a direct threat to the health and safety of passengers, crew, and others during air transportation by requiring passengers to attest that their service animal is currently vaccinated against rabies, has been trained to behave in a public setting, and that the animal has not behaved aggressively or caused serious injury to another person or animal. The form is also designed to educate passengers traveling with service animals on how service animals in air transportation are expected to behave and to inform passengers traveling with service animals of the consequences of service animal misbehavior. The Relief Attestation Form may only be required by the airlines when a passenger is traveling with a service animal on a flight segment scheduled to take 8 hours or more. The purpose of this form is to provide assurances to the airlines that the service animal will not need to relieve itself on the flight or that the animal can relieve itself in a way that does not create a health or sanitation issue. The form is also designed to educate passengers of the consequences should a service animal relieve itself on the aircraft in an unsanitary way.

The Behavior and Health Attestation Form and the Relief Attestation Form are the only forms that airlines are permitted to require from passengers traveling with service animals as a condition of transport, except in rare circumstances when additional documentation may be necessary to comply with animal transport requirements issued by a Federal agency, a U.S. territory, or a foreign jurisdiction.

The Paperwork Reduction Act of 1995 and its implementing regulations, 5 Code of Federal Regulations CFR) part 1320, require Federal agencies to issue two notices seeking public comment on information collection activities before OMB may approve paperwork packages. On November 13, 2023, DOT published a 60-day notice in the Federal Register soliciting comment on the information collections, the Behavior and Health Attestation Form and Relief Attestation form, for which the agency seeks approval. See 85 FR 79742.

In its 60-day notice, the Department sought comment on an amended version of its original Behavior and Health Attestation Form that was published in DOT's final service animal rule in December of 2020. The amended form included formatting and clarifying amendments to the form that were intended to make the form easier for individuals with disabilities to navigate and complete. In addition to seeking comment on amendments to the form, the Department also sought comment on whether the information collections were necessary for the proper performance of the functions of the Department; the accuracy of the Department's estimated burden hours; ways to enhance the quality, utility and clarity of the information collected; and ways to minimize the burden of the collections on respondents. DOT received 149 comments in response to its 60-day notice; most of the comments received, approximately 120, were from individual commenters, while the remaining comments were received from disability advocacy organizations, two airlines trade organizations, and an airline contractor.

The majority of individual commenters stated that the DOT service animal forms were burdensome for passengers with disabilities to complete because there were too many questions on the form. Individual commenters also noted that each airline has a different method of collecting the forms, which makes it difficult for individuals with disabilities to both complete the forms and submit the forms to airlines. Individual commenters also stated that some airlines post the forms on their websites in formats that are not accessible for individuals with disabilities, especially individuals who are blind. Many individual commenters requested that the Department disallow airlines from collecting the forms altogether, or, alternatively, substantially decrease the number or questions on the form.

Commenters representing disability advocacy organizations shared many of the same concerns about the burdensome nature of the form expressed by individual commenters. Disability advocates representing individuals who are blind commented that airlines are not required to assist blind passengers with completing the form and that many blind passengers cannot complete the form independently and must seek the assistance of a sighted person to both complete and submit the form to airlines. Disability advocates also commented that it takes longer than the 15 minutes time period estimated by DOT for individuals with disabilities to complete the form because of the inaccessibility of the form on airline websites and the number of questions on the form. These commenters did not provide a suggested estimate for the amount of time it takes individuals with disabilities to complete the form.

Some of the disability advocacy organizations commented that they oppose airlines using third-party contractors to process the service animal forms and noted that airline staff should be trained on DOT's rules for processing the forms. Several advocacy organizations also encouraged DOT to state on the form that airlines must assist individuals with disabilities with completing the form, that the form should only require passengers to affirm that a service animal has been vaccinated instead of requiring the passengers to indicate the animal's vaccination dates, and that airlines should not be permitted to contact service animal trainers to verify that the animal has been trained. One advocacy organization also urged DOT to replace the term “service animal user” with “service animal handler” since “service animal handler” is a defined term in DOT's ACAA regulations that refers to either an individual with a disability traveling with the service animal, or a third party responsible for controlling the animal who is traveling with the passenger with a disability and service animal.

Some disability advocates were pleased with the some of the formatting and clarifying changes made by DOT to the amended form published in DOT's 60-day notice. Specifically, some commenters stated that they were glad to see that DOT clarified on the form that a service animal user may insert his or her own name and contact information if they train their own service animal. They were also glad to see that DOT eliminated some of the fields on the form, and that DOT added and amended section titles on the form.

Airline trade organizations and an airline contractor submitted comments recommending that DOT make additional clarifying changes to the form that exceed the amendments in DOT's 60-day notice. For instance, these commenters suggested that DOT include a uniform date format on the form, define some of the terms used in the form, attach form instructions, remove the field that requires the passenger to provide the date of the service animal's last vaccination, and clarify that an animal may be refused transport if it shows that it has not been trained to behave in public. These organizations also urged DOT to reinstate the “service animal handler” field on the form and commented that the form should require passengers to provide the service animal's weight, color, and species (or breed), require passengers to list the animal's work or task, and that DOT should strengthen the Federal crime warning for making fraudulent statements on the top of the form by including language clarifying that providing false, fictitious or fraudulent statements on the form is a felony that is subject to a maximum civil penalty of $250,000.

Airline trade organizations provided data from five airlines on the number of service animal forms that were collected from these airlines from July 2022 to June 2023, and urged the Department to use those data to update its calculation on the estimated total annual burden of the information collection.

To address these comments, DOT refined the section titles on its U.S. Department of Transportation Service Animal Air Transportation Form to more accurately reflect the content of each section of the form and removed and combined certain questions on the form to reduce the number of check boxes, from ten check boxes to seven, and the number of fields that passengers are required to complete on the form. Specifically, in the first section of the form that requires the service animal handler to provide his or her contact information, DOT decreased the number of fields in this section, but added a check box that requires the handler to attest that the animal is required to assist with a disability. In the second section of the form, the Service Animal Identification and Health Information section, the handler is required to make a single attestation that the animal does not have fleas or a disease, and that the animal has been vaccinated for rabies. In the third and fourth sections of the form, the handler is required to make four individual attestations concerning the animal's task and behavior training and complete information on the animal's trainer. Finally, the last section requires the handler to check a single box to attest to three additional assurances in order to transport the service animal.

DOT also reinstated the “service animal handler's” field since the term “service animal handler” is defined in the Department's rules, and eliminated the service animal user's name field, since “service animal user” is not a term that is defined in the Department's rules. DOT also clarified on the form that the animal's description must include the animal's color, and that an airline may deny transportation to an animal if the animal shows that it has not been trained to behave in public. Finally, in response to comments received from both airline trade organizations and disability advocates, DOT also developed and included in the form specific instructions for completing the Behavior and Health Attestation Form. In these instructions, DOT defines certain terms used within the form (i.e., service animal and service animal handler), makes clear that the form should be submitted to the airline and not to DOT, describes how passengers can obtain assistance with completing the form, and provides other instructions for completing the form. Additionally, DOT has used data from both airline trade organizations and disability advocates to update its annual burden calculation for the form.

DOT is aware that some of the recommendations from the commenters have not been implemented in the amended Behavior and Health Attestation Form published in this notice. However, as stated in the 60-day notice, the Department's next Air Carrier Access Act Advisory Committee will consider whether substantive changes to the Behavior and Health attestation form are necessary, such as whether to include a question asking passengers to state the task or work their service animal performs, whether to further reduce the number of attestation check-boxes on the form, and whether to amend the warning language at the top of the form.

Copies of the revised form and accompanying instructions reflecting the changes are included in this notice.

Accordingly, the Department announces that these information collection activities have been re-evaluated and certified under 5 CFR. 1320.5(a) and forwarded to OMB for review and approval pursuant to 5 CFR 1320.12(c). Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983 (Aug. 29, 1995). The 30-day notice informs the regulated community to file relevant comments to OMB and affords the Agency adequate time to review and respond to public comments before rendering a decision. See 60 FR 44983 (Aug. 29, 1995). Therefore, respondents should submit any comments to OMB within 30 days of publication to best ensure their full consideration. 5 CFR 1320.12(c); see also 60 FR 44983 (Aug. 29, 1995).

This notice addresses the information collection requirements set forth in the Department's regulation 14 CFR 382.75, which allows airlines to require passengers traveling with service animals to provide the airline with the two forms of documentation developed by the Department as a condition of travel. The renewed OMB control number will be applicable to all the provisions set forth in this notice.

As noted above, the Paperwork Reduction Act of 1995 (PRA) and its implementing regulations, 5 CFR part 1320, require Federal agencies to issue two notices seeking public comment on information collection activities before OMB may approve paperwork packages. A Federal agency generally cannot conduct or sponsor a collection of information, and the public is generally not required to respond to an information collection, unless it is approved by OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below.

1. Requirement to prepare and submit to airlines the DOT Air Transportation Service Animal Behavior and Health Attestation Form (Behavior and Health Attestation Form).

Respondents: Passengers with disabilities traveling on aircraft with service animals.

Number of Respondents: The Department estimates that 639,709 respondents will complete the Service Animal Health and Attestation form. This estimate was calculated by using data provided from Airlines for America (A4A) on the number of Behavior and Health Attestation Forms collected by five of its member airlines between July 1, 2022, through June 30, 2023, and passenger trip data as represented in the origination and destination (O&D) data,¹ collected by DOT from airlines during this same time period.

¹ According to DOT's Bureau of Transportation Statistics (BTS), the Airline Origin and Destination Survey is a 10% sample of airline tickets from reporting carriers collected by the Office of Airline Information of the BTS. Data include origin, destination and other itinerary details of passengers transported. This database is used to determine air traffic patterns, air carrier market shares and passenger flows. https://www.transtats.bts.gov/DatabaseInfo.asp?QO_VQ=EFI&Yv0x=D.

According to A4A, five of its member airlines received 319,057 Behavior and Health Attestation Forms between July 1, 2022, through June 30, 2023.² The number of trips reported for these five airlines for this same time period was 352,265,055. DOT only permits airlines to collect its Behavior and Health Attestation Form from passengers no more than once per trip, or once for every one-way flight or once per round-trip flight, although some airlines that receive permission to store a passenger's Form may collect the form less than once per trip. As such, the estimated number of trips for the purposes of estimating the number of forms collected is 176,132,528 (352,265,055 trips divided by 2). Based on these figures, the rate of Behavior and Health Attestation Forms received by airlines is .00181 (319,057 forms divided by 176,132,528 trips), or 1.81 forms received by airlines per 1,000 for each trip.

² Comment from Airlines for America, https://www.regulations.gov/comment/DOT-OST-2018-0068-32515.

According to BTS data, U.S. and foreign airlines reported a total of 706,861,040 O&D trips between July 1, 2022, through June 30, 2023. Using the rate of .00181 or 1.81 forms received by airlines per 1,000 for each trip, we estimate that 639,709 forms (706,861,040 total trips, divided by 2, and multiplied by .00181 rate of forms received by airlines) were submitted to airlines between July 1, 2022, through June 30, 2023. Assuming that one passenger traveling with a service animal represents each form, DOT estimates that 639,709 passengers will have submitted service animal forms between July 1, 2022, through June 30, 2023.

Estimated Total Annual Burden on Respondents: We estimate that completing the Behavior and Health Attestation Form would require 20 minutes (.333 hours) per response, including the time it takes to retrieve an electronic or paper version of the form from the airline's website, reviewing the instructions, and completing the questions. The Department previously estimated that it took passengers 15 minutes to complete its Behavior and Health Attestation Form, but a number of individuals commented that it took more than 15 minutes to complete the form, although none of the commenters stated the amount of time it takes to complete the form.

Based on this estimate, passengers would spend a total of 213,023 hours annually (0.333 hours × 639,709 forms) to retrieve and complete an accessible version of the form. Passengers would fill out the forms on their own time without pay. To estimate the value of this uncompensated activity, we use median wage data from the Bureau of Labor Statistics.³ We use a post-tax wage estimate of $18.48 ($22.26 median for all occupations minus a 17% percent estimated tax rate). The estimated annual value of this time is $3,936,668 ($18.48 × 213,023 hours).⁴

³ For a discussion of estimating the value of uncompensated activities, see “Valuing Time in U.S. Department of Health and Human Services Regulatory Impact Analyses: Conceptual Framework and Best Practices” from the Department of Health and Human Services, available at https://aspe.hhs.gov/system/files/pdf/257746/VOT.pdf.

⁴ Bureau of Labor Statistics (2022). “May 2022 National Occupational Employment and Wage Estimates: United States.” May 2022 National Occupational Employment and Wage Estimates (bls.gov).

2. Requirement to prepare and submit to airlines the DOT Service Animal Relief Attestation Form.

Respondents: Passengers with disabilities traveling on aircraft with service animals on flight segments scheduled to take 8 hours or more.

Number of Respondents: The Department estimates that 5 percent of the Behavior and Health Attestation Form would be collected for round trip flights scheduled to take 8 hours or more and would also have to complete the Relief Attestation Form, for a total of 31,985 forms (639,709 forms × 0.05).

Estimated Total Annual Burden on Respondents: We estimate that completing the form would require 15 minutes (.25 hours) per response, including the time it takes to retrieve an electronic or paper version of the form from the airline's website, reviewing the instructions, and completing the questions. Passengers would spend a total of 7,996 hours annually (0.25 hours × 31,985 forms) to retrieve an accessible version of the form and complete the form. Passengers would fill out the forms on their own time without pay, as they would with the Animal Behavior and Health Attestation Form. The estimated annual value of this time is $147,770 ($18.48 × 7,996 hours).

Comments Invited

We invite comments on the Relief Attestation Form renewal and on the formatting and clarity amendments made to the Behavior and Health Attestation Form. We also invite comments on: (a) whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 59 CFR 1.48.

BILLING CODE 4910-9X-P

Issued in Washington, DC.
Livaughn Chapman Jr.,
Deputy Assistant General Counsel, Office of Aviation Consumer Protection.

[FR Doc. 2024-08820 Filed 4-26-24; 8:45 am]

BILLING CODE 4910-9X-C